ENVIRONMENTAL PROTECTION AGENCY

[EPA-HQ-OPPT-2016-0697; FRL-9958-32]

Certain New Chemicals; Receipt and Status Information for December 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from December 1, 2016 to December 30, 2016.

DATES: Comments identified by the specific case number provided in this document, must be received on or before April 10, 2017.

ADDRESSES: Submit your comments, identified by docket identification (ID) number EPA-HQ-OPPT-2016-0697, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from December 1, 2016 to December 30, 2016, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 65 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From December 2, 2016 to December 30, 2016
Case No. | Received date | Projected notice end date | Manufacturer importer | Use | Chemical
P-16-0193 | 12/5/2016 | 3/5/2017 | CBI | (S) Intermediate. | (G) Branched alkenes.
P-16-0358 | 12/19/2016 | 3/19/2017 | CBI | (S) Intermediate for further polymer reaction | (G) Alkyl phenol.
P-16-0372 | 12/21/2016 | 3/21/2017 | CBI | (G) Wetting and dispersing additive | (G) Polyester phosphate alkyl alkyl esters.
P-16-0380 | 12/1/2016 | 3/1/2017 | CBI | (G) Component of an electrocoat resin | (G) Formic acid, compounds (compds.) with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products acetates (salts).
P-16-0380 | 12/1/2016 | 3/1/2017 | CBI | (G) Component in electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products acetates (salts).
P-16-0380 | 12/1/2016 | 3/1/2017 | CBI | (S) Anti-Crater additive for automotive electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products acetates (salts).
P-16-0381 | 12/1/2016 | 3/1/2017 | CBI | (S) Anti-Crater additive for automotive electrocoat resin | (G) Propanoic acid, 2-hydroxy-, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products formates (salts).
P-16-0381 | 12/1/2016 | 3/1/2017 | CBI | (G) Component of electrocoat resin | (G) Propanoic acid, 2-hydroxy-, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products formates (salts).
P-16-0381 | 12/1/2016 | 3/1/2017 | CBI | (G) Component of an electrocoat resin | (G) Propanoic acid, 2-hydroxy-, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products formates (salts).
P-16-0382 | 12/1/2016 | 3/1/2017 | CBI | (G) Component of an electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products sulfamates(salts).
P-16-0382 | 12/1/2016 | 3/1/2017 | CBI | (S) Anti-Crater additive for automotive electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products sulfamates(salts).
P-16-0383 | 12/1/2016 | 3/1/2017 | CBI | (G) Component in electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products acetates (salts).
P-16-0383 | 12/1/2016 | 3/1/2017 | CBI | (G) Component of an electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products acetates (salts).
P-16-0383 | 12/1/2016 | 3/1/2017 | CBI | (S) Anti-Crater additive for automotive electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products acetates (salts).
P-16-0384 | 12/1/2016 | 3/1/2017 | CBI | (G) Component of electrocoat resin | (G) Propanoic acid, 2-hydroxy-, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products formates (salts).
P-16-0384 | 12/1/2016 | 3/1/2017 | CBI | (S) Anti-Crater additive for automotive electrocoat resin | (G) Propanoic acid, 2-hydroxy-, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products formates (salts).
P-16-0385 | 12/1/2016 | 3/1/2017 | CBI | (G) Component of electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products sulfamates(salts).
P-16-0385 | 12/1/2016 | 3/1/2017 | CBI | (S) Anti-Crater additive for automotive electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products sulfamates(salts).
P-16-0385 | 12/1/2016 | 3/1/2017 | CBI | (G) Component in electrocoat resin | (G) Formic acid, compds. with hydrolyzed bisphenol A-epichlorohydrin-polyethylene glycol ether with bisphenol A (2:1) polymer-N1-(1,3-dimethylbutylidene)-N2-[2-[(1, 3-dimethylbutylidene)amino]ethyl]-1,2-ethanediamine-dialdehyde-2-(methylamino)ethanol reaction products sulfamates(salts).
P-16-0388 | 12/22/2016 | 3/22/2017 | CBI | (G) Hardener for epoxy coating | (G) Aliphatic polyamines, polymers with bisphenol A and epichlorohydrin.
P-16-0399 | 12/22/2016 | 3/22/2017 | Tryeco LLC | (S) Agricultural soil amendment for turf applications and direct soil injection with fertilizers | (S) Starch, polymer with 2-propenoic acid, potassium salt. oxidized.
P-16-0399 | 12/22/2016 | 3/22/2017 | Tryeco LLC | (S) Compound to be used in preparation of advanced seed coatings | (S) Starch, polymer with 2-propenoic acid, potassium salt. oxidized.
P-16-0399 | 12/22/2016 | 3/22/2017 | Tryeco LLC | (S) Agricultural soil amendment for filed crops as “agrisorb plus” granular soil amendment | (S) Starch, polymer with 2-propenoic acid, potassium salt. oxidized.
P-16-0446 | 12/5/2016 | 3/5/2017 | Allnex USA Inc. | (S) Resin in architectural primer coatings | (G) Fatty acids, reaction products with alkylamine, polymers with substituted carbomonocycle, substituted alkylamines, heteromonocycle and substituted alkanoate, lactates (salts).
P-16-0486 | 12/15/2016 | 3/15/2017 | CBI | (G) Isolated intermediate in the production of a refrigerant precursor | (G) Polychloropropane.
P-16-0505 | 12/5/2016 | 3/5/2017 | CBI | (S) Polymeric resin for ultraviolet (uv) curable acrylates | (S) Poly[oxy(methyl- 1, 2- ethanediyl) ] , alpha- (1- oxo- 2- propen- 1- yl)—omega- [(1- oxo- 2- propen- 1- yl) oxy] -.
P-16-0505 | 12/5/2016 | 3/5/2017 | CBI | (S) Polymeric resin for uv curable acrylates | (S) Poly[oxy(methyl- 1, 2- ethanediyl) ] , a- (1- oxo- 2- propen- 1- yl)—q- [(1- oxo- 2- propen- 1- yl) oxy] -.
P-16-0513 | 12/28/2016 | 3/28/2017 | CBI | (S) Intermediate for further reaction | (G) Alkylphenol.
P-16-0530 | 12/6/2016 | 3/6/2017 | CBI | (S) Concrete and stone coating | (S) 2-propenoic acid, 2-methyl, 2-(dimethylamino) ethyl ester, polymer with ethyl 2-prpenoate, 2-hydroxyethyl m2-propenoate and methyl 2-methyl 2-propenoate, acetate salt.
P-16-0543 | 12/19/2016 | 3/19/2017 | CBI | (G) Battery ingredient | (G) Halogenophosphoric acid metal salt.
P-16-0547 | 12/21/2016 | 3/21/2017 | CBI | (G) Catalyst | (G) Neodymium aluminium alkyl polymer complex.
P-16-0589 | 12/19/2016 | 3/19/2017 | CBI | (G) Synthetic aircraft engine lubricant for Contained use industrial lubricant | (G) Pentaerythritol ester of mixed linear and branched carboxylic acids.
P-16-0591 | 12/9/2016 | 3/9/2017 | Chromatic Technologies, Inc | (G) Component of printing ink | (G) Alkyl bis-phenol.
P-16-0591 | 12/9/2016 | 3/9/2017 | Chromatic Technologies, Inc | (G) Component of colorants | (G) Alkyl bis-phenol.
P-17-0013 | 12/21/2016 | 3/21/2017 | CBI | (G) Open dispersive use component in liquid paint coating | (G) Formaldehyde, polymer with arylylpolyamine, 2-(chloromethyl)oxirane and phenol.
P-17-0107 | 12/13/2016 | 3/13/2017 | CBI | (S) Coreactant used in an adhesive | (G) Hydroxyl terminated polyurethane of methylene diphenyldiisocyanate based on polyester and polyether-polyol.
P-17-0121 | 12/6/2016 | 3/6/2017 | CBI | (S) Polyurethane used in an adhesive | (G) Methylene diphenyl diisocyanate terminated polyurethane resin.
P-17-0127 | 12/6/2016 | 3/6/2017 | Spectrum Tracer Services | (S) Chemical tracer pumped into an oil or gas well to monitor well performance | (G) Halogenated benzoic acid ethyl ester.
P-17-0139 | 12/6/2016 | 3/6/2017 | Spectrum Tracer Services | (S) Chemical tracer pumped into an oil or gas well to monitor well performance | (G) Halogenated benzoic acid ethyl ester.
P-17-0146 | 12/2/2016 | 3/2/2017 | CBI | (G) Coatings polymer | (G) Aromaticpolycarboxylic acid, polymer with [(aminoalkyl)amino]alkanol,(chloroalkyl)oxirane homopolymer etherwith polyalkyleneoxide,alkanedioic acid, alkyldiol, heterocyclicketone, alicyclic polyisocyanate, polyalkyleneoxide monoalkylether and polyalkoxyalkylajmine, reaction products with N-alkylalyklamine, alkylcarboxylate (salts).
P-17-0146 | 12/2/2016 | 3/2/2017 | CBI | (G) Ink binder polymer | (G) Aromaticpolycarboxylic acid, polymer with [(aminoalkyl)amino]alkanol,(chloroalkyl)oxirane homopolymer etherwith polyalkyleneoxide,alkanedioic acid, alkyldiol, heterocyclicketone, alicyclic polyisocyanate, polyalkyleneoxide monoalkylether and polyalkoxyalkylajmine, reaction products with N-alkylalyklamine, alkylcarboxylate (salts).
P-17-0157. | 12/20/2016 | 3/20/2017 | CBI | (G) Binder used in coating manufacture | (G) Silane amine carbonate.
P-17-0163 | 12/8/2016 | 3/8/2017 | CBI | (G) Chemical precursor | (G) Substituted benzofuropyridine.
P-17-0164 | 12/7/2016 | 3/7/2017 | CBI | (G) Intermediate chemical | (G) Substituted benzofuropyridine.
P-17-0165 | 12/5/2016 | 3/5/2017 | CBI | (G) Electronic device use | (G) Fluorocyanophenyl alkylbenzoate.
P-17-0166 | 12/12/2016 | 3/12/2017 | CBI | (G) Additive in adhesive dispersions | (G) Rosin polymer, glycol ester.
P-17-0167 | 12/12/2016 | 3/12/2017 | CBI | (G) Additive in adhesive dispersions | (G) Rosin polymer, glycol ester.
P-17-0170 | 12/8/2016 | 3/8/2017 | Allnex Usa Inc. | (S) Uv curable coating resin for 3d printing applications | (G) Alkanediol, 2,2-bis (substituted alkyl)-, polymer with substituted alkane, heteromonocycles, alkenoate.
P-17-0171 | 12/19/2016 | 3/19/2017 | Classic Dyestuffs | (S) Solvent dye for use as ink in hot foil stamping | (S) 1,3-benzenedisulfonic acid, 4-[2-(5-cyano-1-ethyl-1,6-dihydro-2-hydroxy-4-methyl-6-oxo-3-pyridinyl)diazenyl]-, sodium salt (1:2).
P-17-0172 | 12/8/2016 | 3/8/2017 | CBI | (G) Lubricating oil additive | (G) Sulfurized alkylphenol, calcium salts.
P-17-0173 | 12/14/2016 | 3/14/2017 | CBI | (G) Chemical/polymer modification | (G) Polydimethysiloxane eugenol group-terminated.
P-17-0174 | 12/12/2016 | 3/12/2017 | CBI | (G) Plastics additive | (G) Alkyltriethoxysilylpolysiloxane.
P-17-0176 | 12/12/2016 | 3/12/2017 | CBI | (G) Battery ingredient | (G) Carbonic acid, alkyl carbomonocyclic ester.
P-17-0177 | 12/13/2016 | 3/13/2017 | Shin-Etsu Microsi | (G) Microlithography for electronic device Manufacturing | (G) Monoheteropentacycloalkane-4-carboxylic acid, substituted-cycloalkyl ester.
P-17-0178 | 12/13/2016 | 3/13/2017 | Shin-Etsu Microsi | (G) Microlithography for electronic device manufacturing | (G) Sulfonium, triphenyl-, salt with substituted-alkyl 4-substituted-benzoate.
P-17-0179 | 12/21/2016 | 3/21/2017 | CBI | (S) Modified carboxypolyamine salt used as a dispersing additive for pigments in industrial paints and coatings | (G) Modified carboxypolyamine salt.
P-17-0180 | 12/20/2016 | 3/20/2017 | CBI | (S) Modified acids polymer with polyols and anhydride used as a dispersing additive for pigments in industrial paints and coatings | (G) Modified acids polymer with polyols and anhydride.
P-17-0181 | 12/16/2016 | 3/16/2017 | CBI | (G) Polymeric dispersant | (G) 2-propanol, aklylamino, polymer with 2,4-diisocyanato-1-methylbenzene and 2,2′-iminobis[ethanol], 2-oxepanone homopolymer lauryl ester- and polypropylene glycol 2-aminomethylethyl branched nonylphenyl ether-blocked.
P-17-0184 | 12/20/2016 | 3/20/2017 | Colonial Chemical, Inc | (S) Transportation washes | (S) 1-propanaminium, 2-hydroxy-N, N-dimethyl-N-[3-[(1-oxooctyl-amino]propyl]-3-sulfo-, inner salt.
P-17-0184 | 12/20/2016 | 3/20/2017 | Colonial Chemical, Inc | (S) Industrial all-purpose cleaners | (S) 1-propanaminium, 2-hydroxy-N, N-dimethyl-N-[3-[(1-oxooctyl-amino]propyl]-3-sulfo-, inner salt.
P-17-0184 | 12/20/2016 | 3/20/2017 | Colonial Chemical, Inc | (S) Personal care products, shampoos, facial washes | (S) 1-propanaminium, 2-hydroxy-N, N-dimethyl-N-[3-[(1-oxooctyl-amino]propyl]-3-sulfo-, inner salt.
P-17-0184 | 12/20/2016 | 3/20/2017 | Colonial Chemical, Inc | (S) Firefighting foams | (S) 1-propanaminium, 2-hydroxy-N, N-dimethyl-N-[3-[(1-oxooctyl-amino]propyl]-3-sulfo-, inner salt.
P-17-0185 | 12/20/2016 | 3/20/2017 | CBI | (G) Additive, open, non-dispersive use | (G) Fatty acids, C18-unsaturated (unsatd.), dimers, hydrogenated, polymers with C18-unsatd. fatty acid trimers, alkylenediamine and hydroxyalkanoic acid.
P-17-0186 | 12/20/2016 | 3/20/2017 | CBI | (G) Additive, open, non-dispersive use | (G) 2,5-furandione, telomer with 1,1′-(1,1-dimethyl-3-methylene-1,3-propanediyl)bis[benzene] and ethenylbenzene, carbonmonocycle alkyl ester, esters with polyalkylene glycol mono alkyl ethers, ammonium salts, 2,2′-(1,2-diazenediyl)bis[2-methylbutanenitrile]-initiated.
P-17-0190 | 12/26/2016 | 3/26/2017 | CBI | (G) A polymer in paints and architectural coatings | (G) Butanoic acid, 3-oxo-, 2-[(2-methyl-1-oxo-2-propen-1-yl)oxy]ethyl ester, polymer with cycloalkyl 2-methyl-2-propenoate, ethenylbenzene, 2-ethylhexyl 2- propenoate, methyl 2-methyl-2-propenoate and 2-methylpropyl 2-methyl-2- propenoate.

For the 10 NOCs received by EPA during this period, Table 2 provides the following information (to the extent that such information is not claimed as CBI): The EPA case number assigned to the NOC; the date the NOC was received by EPA; the projected date of commencement provided by the submitter in the NOC; and the chemical identity.

Table 2—NOCs Received From December 1, 2016 to December 30, 2016
Case No. | Received date | Commencement date | Chemical
J-15-0033 | 12/22/2016 | 12/21/2016 | (G) Modified trichoderma reesei strain.
J-16-0033 | 12/19/2016 | 12/4/2016 | (G) Saccharomyces cerevisiae, modified to express glucoamylase activity.
P-07-0177 | 12/15/2016 | 9/11/2007 | (S) Isocyanic acid, polymethylenepolyphenylene ester, polymer with methoxylated dehydrochlorinated brominated 2-butyne-1,4-diolepichlorohydrin polymer.
P-07-0395 | 12/5/2016 | 7/29/2007 | (G) Dialkyl formamide.
P-14-0713 | 12/7/2016 | 11/20/2016 | (S) Plastics, wastes, pyrolyzed, C5-12 oil.
P-14-0714 | 12/7/2016 | 11/20/2016 | (S) Plastics, wastes, pyrolyzed, C9-20 pyrolysis oil.
P-14-0715 | 12/7/2016 | 11/20/2016 | (S) Waste plastics, pyrolyzed, C20-55 fraction.
P-16-0074 | 12/20/2016 | 12/1/2016 | (G) Isocyanate terminated polyurethane.
P-16-0248 | 12/5/2016 | 11/18/2016 | (G) Poly(oxy-1,2-ethanediyl), éq,éq′-[(1,methylethylidene)di-4,1-phenylene]bis[ïq-hydroxy-, polymer with aliphatic diisocyanate, propylene glycol monomethacrylate-blocked.
P-16-0492 | 12/21/2016 | 12/10/2016 | (G) Polyester-amide polymer of ‘isophthalic acid’ with diamino-alkane, cyclohexane-dialcohol, alkanetriol, di-isocyanate and acrylic acid-ethylene copolymer.

Authority: 15 U.S.C. 2601 et seq.

Dated: January 30, 2017.
Pamela Myrick,
Director, Information Management Division, Office of Pollution Prevention and Toxics.

[FR Doc. 2017-04772 Filed 3-9-17; 8:45 am]

BILLING CODE 6560-50-P